DEPARTMENT OF ENERGY

Federal Energy Regulatory Commission

Notice of Transfer of Licenses and Soliciting Comments, Protests, and Motions To Intervene

October 4, 2001.

Take notice that the following hydroelectric application has been filed with the Commission and is available for public inspection:

a. Application Type: Transfer of Licenses.

b. Project Nos: 2742-028, 2743-041, 2911-027, and 3015-010.

c. Date Filed: August 27, 2001.

d. Applicants: Alaska Energy Authority (transferor) and the Four Dam Pool Power Agency (transferee).

e. Name and Location of Projects: The Solomon Gulch Project No. 2742 is located on Solomon Gulch Creek in the Valdez-Cordova area, the Terror Lake Project No. 2743 is located on the Terror and Kizhuyak Rivers in Kodiak Island Borough, the Swan Lake Project No. 2911 is located on Falls Creek in Ketchikan Gateway Borough, and the Tyee Lake Project No. 3015 is located on Tyee Creek in the Wrangell area, Alaska. These projects occupy federal lands administered by the U.S. Forest Service, the Bureau of Land Management, and other agencies.

f. Filed Pursuant to: Federal Power Act, 16 U.S.C. 791(a)-825(r).

g. Applicant Contacts: For transferor: Mr. Brian Bjorkquist, Alaska Attorney General's Office, 1031 W. Fourth Avenue, Anchorage, AK 99501, (907) 269-5136. For transferee: Mr. Ronald L. Saxton, Ater Wynne LLP, 222 SW Columbia Street—Suite 1800, Portland, OR 97201-6618, (503) 226-1191.

h. FERC Contact: James Hunter, (202) 219-2839.

i. Deadline for filing motions to intervene, protests and comments: (November 5, 2001).

All documents (original and eight copies) should be filed with: David P. Boergers, Secretary, Federal Energy Regulatory Commission, 888 First Street, NE, Washington DC 20426. Copies of this filing are on file with the Commission and are available for public inspection. Comments, protests and interventions may be filed electronically via the Internet in lieu of paper. See, 18 CFR 385.2001(a)(1)(iii) and the instructions on the Commission's web site under the “e-Filing” link.

Please include the noted project numbers on any comments or motions filed.

j. Description of Proposal: The Applicants propose a transfer of the licenses for the Solomon Gulch, Terror Lake, Swan Lake, and Tyee Lake hydroelectric projects from Alaska Energy Authority (an agency of the State of Alaska) to the Four Dam Pool Power Agency, which is comprised of representatives of the five utilities that now operate the projects. The transfer is sought in connection with the proposed sale of the projects to fund an endowment for Alaska's Power Cost Equalization program, which is intended to provide affordable energy to meet the basic economic needs of rural Alaskans.

k. Copies of this filing are on file with the Commission and are available for public inspection. This filing may be viewed on the Commission's Web site at http://www.ferc.gov using the “RIMS” link, select “Docket#” and follow the instructions (call (202) 208-2222 for assistance). A copy is also available for inspection and reproduction at the addresses in item g above.

l. Individuals desiring to be included on the Commission's mailing list should so indicate by writing to the Secretary of the Commission.

Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, or “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-25497 Filed 10-10-01; 8:45 am]

BILLING CODE 6717-01-P